DEPARTMENT OF COMMERCE

International Trade Administration

[A-570-863]

Honey From the People's Republic of China: Affirmative Final Determination of Circumvention of the Antidumping Duty Order

AGENCY: Import Administration, International Trade Administration, Department of Commerce.

ACTION: Notice of Affirmative Final Determination of Circumvention of Antidumping Duty Order.

SUMMARY: On June 21, 2012, the Department of Commerce (“Department”) published in the Federal Register the affirmative Preliminary Determination ¹ of this anticircumvention inquiry, and determined that blends of honey and rice syrup are subject to the antidumping duty Order on honey from the People's Republic of China (“PRC”).² We gave interested parties an opportunity to comment on the Preliminary Determination. None were submitted. As a result, we are making no changes from the Preliminary Determination for this final determination.

¹ See Honey from the People's Republic of China: Affirmative Preliminary Determination of Circumvention of the Antidumping Duty Order, 77 FR 37378 (June 21, 2012) (“Preliminary Determination”).

² See Notice of Amended Final Determination of Sales at Less Than Fair Value and Antidumping Duty Order; Honey From the People's Republic of China, 66 FR 63670 (December 10, 2001) (“Order”).

DATES: Effective Date: August 21, 2012.

FOR FURTHER INFORMATION CONTACT: Catherine Bertrand, telephone: (202) 482-3207, or Josh Startup, telephone: (202) 482-5260; AD/CVD Operations, Office 9, Import Administration, International Trade Administration, U.S. Department of Commerce, 14th Street and Constitution Avenue NW., Washington, DC 20230.

SUPPLEMENTARY INFORMATION:

Background

On June 21, 2012, the Department published the affirmative Preliminary Determination of circumvention of the antidumping Order on honey from the PRC. The Department did not receive any comments from interested parties on this determination.

Changes Since the Preliminary Determination

We have not made any changes to the Preliminary Determination.

Scope of the Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90, 2106.90.99, 0409.00.0010, 0409.00.0035, 0409.00.0005, 0409.00.0045, 0409.00.0056, and 0409.00.0065 of the Harmonized Tariff Schedule of the United States (“HTSUS”). Although the HTSUS subheadings are provided for convenience and customs purposes, the Department's written description of the merchandise under order is dispositive.

Merchandise Subject to the Anticircumvention Inquiry

The merchandise subject to the anticircumvention inquiry are blends of honey and rice syrup, regardless of the percentage of honey they contain, from the PRC.

International Trade Commission Notification

In accordance with section 781(d) of the Tariff Act of 1930, as amended (“the Act”), we notified the International Trade Commission (“ITC”) of the proposed inclusion of blends of honey and rice syrup in the antidumping duty order on honey from the PRC.³ The ITC determined that consultations were not necessary.⁴

³ See the Department's letter to the ITC dated May 14, 2012, Re: Anticircumvention Inquiry of the Antidumping Duty Order on Honey from the People's Republic of China.

⁴ See Memorandum To: The File, From: Josh Startup Trade Compliance Analyst, Office 9 Import Administration Re: Letter from the International Trade Commission (“ITC”) Regarding the Anti-circumvention Inquiry, dated July 17, 2012, at Attachment 1.

Final Affirmative Determination of Circumvention

As there is no basis for the Department to reconsider its decision, we continue to find that blends of honey and rice syrup are later-developed merchandise. As explained in the Preliminary Determination, the evidence on the record demonstrates that blends of honey and rice syrup were not commercially available at the time that the investigation was initiated and these blends are materially different from the merchandise under consideration at the time of the investigation and, in particular, different from the honey blends specifically excluded under the Order. Additionally, all honey rice syrup blends, regardless of the percentage of honey they contain, meet the criteria under sections 781(d)(1)(A-E) of the Act. Therefore, the Department determines that blends of honey and rice syrup, regardless of the percentage of honey they contain, from the PRC are later-developed merchandise within the meaning of section 781(d) of the Act, and are within the scope of the Order.

Continuation of Suspension of Liquidation

In accordance with 19 CFR 351.225(l)(2) and (3), we will instruct U.S. Customs and Border Protection to continue to suspend liquidation of all entries of blends of honey and rice syrup, from the PRC that were entered, or withdrawn from warehouse, for consumption on or after December 7, 2011, the date of initiation of this anticircumvention inquiry.

Administrative Protective Order

In accordance with 19 CFR 351.305(a)(3), this notice also serves as a reminder to parties subject to administrative protective order (“APO”) of their responsibility concerning the return or destruction of proprietary information disclosed under the APO, which continues to govern business proprietary information in this segment of the proceeding. Timely written notification of the return/destruction of APO materials or conversion to judicial protective order is hereby requested. Failure to comply with the regulations and terms of an APO is a violation subject to sanction.

This determination is issued and published in accordance with section 781(d) of the Act and 19 CFR 351.225(j).

Dated: August 14, 2012.
Paul Piquado,
Assistant Secretary for Import Administration.

[FR Doc. 2012-20548 Filed 8-20-12; 8:45 am]

BILLING CODE 3510-DS-P